DEPARTMENT OF THE INTERIOR

Bureau of Indian Affairs

Bureau of Land Management

[LLNMF01000.L13150000.NB0000.16X]

Amended Notice of Intent To Amend the Resource Management Plan for the Farmington Field Office, New Mexico and Prepare an Associated Environmental Impact Statement

AGENCY: Bureau of Indian Affairs and Bureau of Land Management, Interior.

ACTION: Notice.

SUMMARY: In compliance with the National Environmental Policy Act of 1969, as amended (NEPA), and the Federal Land Policy and Management Act of 1976, as amended (FLPMA) (43 U.S.C. 1711-1712), the Bureau of Land Management (BLM) Farmington Field Office, Farmington, New Mexico is preparing a Resource Management Plan Amendment (RMPA) with an associated Environmental Impact Statement (EIS). By this notice, the BLM is announcing the beginning of a scoping process to solicit public comments and to identify issues specifically related to analysis of Bureau of Indian Affairs (BIA) managed mineral leasing and associated activity decisions pursuant to 25 Code of Federal Regulations (CFR) part 200 et seq. as part of the EIS for the Farmington RMPA.

DATES: This notice initiates the public scoping process for the RMP amendment specific to the extension of analysis in that EIS to BIA decision-making where BIA manages mineral leasing and associated activities in the RMPA Planning Area. Comments may be submitted in writing until December 20, 2016. The BIA and BLM will host public meetings specific to using this EIS to inform BIA mineral leasing and associated activity decisions. The date(s) and location(s) of the public scoping meeting(s) will be announced at least 15 days in advance through local news media, newspapers, and the BLM Web site at: http://www.blm.gov/nm/farmington. To be included in the analysis, all comments must be received prior to the close of the 60-day scoping period or 15 days after the last public meeting, whichever is later. We will provide additional opportunities for public participation, as appropriate.

ADDRESSES: You may submit comments on issues and planning criteria related to applying this EIS to BIA-managed mineral leasing and associated activity decisions in the RMPA Planning Area by any of the following methods:

• Web site: http://www.blm.gov/nm/farmington.

• Email: BLM_NM_FFO_RMP@blm.gov.

• Fax: 505-564-7608.

• Mail: 6251 North College Blvd. Suite A, Farmington, NM 87402.

Documents pertinent to this proposal may be examined at the BLM Farmington Field Office/Federal Indian Mineral Office, 6251 N. College Blvd. Suite A, Farmington, NM 87402; BLM New Mexico State Office, 301 Dinosaur Trail, Santa Fe, NM 87508; BIA Eastern Navajo Agency, 222 Chaco Blvd., Crownpoint, NM 87313; and BIA Navajo Regional Office, 301 West Hill Ave., Gallup, NM 87301. Documents may also be viewed on the BLM's Web site: http://www.blm.gov/nm/farmington.

FOR FURTHER INFORMATION CONTACT: Mark Ames, BLM Project Manager, telephone 505-564-7611; address 6251 North College Blvd., Suite A, Farmington, New Mexico 87402; email BLM_NM_FFO_Comments@blm.gov, or Harrilene Yazzie, BIA Supervisory Environmental Protection Specialist, telephone 505-863-8287; address P.O. Box 1060, Gallup, New Mexico 87301; email harrilene.yazzie@bia.gov to have your name added to our mailing list. Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: The BLM Farmington Field Office, Farmington, New Mexico initiated preparation of the RMPA/EIS in 2014. The initial scoping period, announced by Federal Register Notice of Intent on February 25, 2014, offered the public an opportunity to comment on planning criteria and issues related to the BLM's RMPA/EIS. After the close of the public scoping period on the RMPA/EIS, the BIA formally joined the EIS process as a joint lead agency and intends to use this planning effort to inform its subsequent mineral leasing and associated activity decision-making processes. This notice announces the beginning of a scoping process seeking public input on issues and planning criteria specifically related to analysis of BIA mineral leasing and associated activity decisions to be considered in this EIS process. This notice does not reopen the scoping period related to issues and planning criteria for the BLM decisions to be analyzed in this EIS.

The Planning Area is located in San Juan, Rio Arriba, McKinley, and Sandoval Counties in New Mexico, and encompasses approximately 4,200,000 acres of land, including approximately 1,900,000 acres of Tribal surface land, 1,300,000 acres of BLM-managed land, across 17 Navajo Nation chapters, individual Indian allotments, and numerous Chapter House residents. The purpose of this public scoping process is to determine issues relevant to considering BIA-managed mineral leasing and associated activity decisions in the Planning Area.

The BLM's preliminary planning criteria identified in the February 25, 2014, Federal Register Notice are hereby incorporated by reference. Additional preliminary planning criteria specific to BIA's joint lead agency status include:

• The BIA will serve as joint (or co-lead) agency for this EIS.

• The BIA and BLM will prepare the RMPA/EIS in compliance with FLPMA, the Endangered Species Act, the Clean Water Act, the Clean Air Act, NEPA, and all other applicable laws, executive orders, and BIA and BLM management policies.

• The BIA will use the EIS as the analytical basis for decisions pertaining to the leasing of Tribal trust and individual Indian allotted minerals within the Planning Area.

• The BIA will use this EIS to inform decisions on lands where mineral leasing and associated activities are managed by the BIA.

• The BIA and BLM will recognize valid existing rights.

• The BIA and BLM will coordinate with Federal, State, and Tribal governments and local agencies in the RMPA/EIS process to ensure consistency with existing plans and policies, to the extent practicable.

• The BIA and BLM will consult with Indian Tribes on a government-to-government basis in accordance with Executive Order 13175 and other policies.

• The BIA and BLM will coordinate with Tribal governments and provide strategies for the protection of recognized traditional uses and sacred sites.

• The BIA and BLM will apply appropriate protection and management of cultural resources and historic properties, and will engage in all required Tribal consultations.

• The BIA and BLM will consult with the New Mexico Department of Game and Fish and the Navajo Nation Department of Fish and Wildlife as appropriate.

You may submit comments on issues and planning criteria in writing at any public scoping meeting, or by using one of the methods listed in the ADDRESSES section above. To be included in the analysis, all comments must be received prior to the close of the 60-day scoping period or 15 days after the last public meeting, whichever is later. The BIA and BLM will utilize and coordinate the NEPA scoping process to help fulfill the public involvement process under the National Historic Preservation Act (54 U.S.C. 306108) as provided in 36 CFR 800.2(d)(3). The information about historic and cultural resources within the area potentially affected by the proposed action will assist the BLM and BIA in identifying and evaluating impacts to such resources.

The BLM and BIA are required to consult with Indian Tribes, as applicable, on a government-to-government basis in accordance with Executive Order 13175 and other policies. Tribal and individual Indian allottee concerns, including impacts on Indian trust assets and potential impacts to cultural resources within the Planning Area, will be given due consideration. Federal, State, and local agencies and individual Indian allottees, tribes, and other stakeholders that may be interested in or affected by the proposed action that the BIA and BLM are evaluating, are invited to participate in the scoping process. These entities may request or be requested by the BIA and BLM to participate in the development of the environmental analysis as a cooperating agency, if eligible. Before including your address, phone number, email address, or other personal identifying information in your comment, you should be aware that your entire comment—including your personal identifying information—may be made publicly available at any time. While you can ask us in your comment to withhold your personal identifying information from public review, we cannot guarantee that we will be able to do so. The minutes and list of attendees for each public scoping meeting will be available to the public and open for 30 days after the meeting to any participant who wishes to clarify the views he or she expressed.

The BLM and BIA will evaluate identified issues to be addressed and will place them into one of three categories; the draft RMPA/EIS will provide an explanation as to why an issue was placed in category two or three, and is therefore beyond the scope of this EIS:

1. Issues to be resolved by the BIA in its subsequent decision-making processes regarding BIA-managed mineral leasing and associated activities in the Planning Area;

2. Issues to be resolved through policy or administrative action; or

3. Issues beyond the scope of this plan amendment.

The public is also encouraged to help identify any management questions and concerns that should be addressed in the plan. The BIA and BLM will work collaboratively with interested parties to identify the management decisions that are best suited to local, regional, and National needs and concerns and trust responsibilities.

The following resource issues were identified in a prior scoping period announced by the February 25, 2014, Federal Register Notice of Intent to Prepare a Resource Management Plan Amendment and an Associated Environmental Impact Statement for the Farmington Field Office, New Mexico: lands with wilderness characteristics; areas of critical environmental concern; air, soil, and water resources; vegetative communities; wildlife/habitat management areas; and land use authorizations. These resource issues will not be revisited but embodied in the current scoping process, except as they pertain to BIA-managed mineral leasing and associated activity decisions.

The BIA and BLM will use an interdisciplinary approach to develop the plan amendment in order to consider the variety of resource issues and concerns identified.

Authority: 40 CFR 1501.7 and 43 CFR 1610.2.

Sharon Pinto,
Navajo Regional Director, Bureau of Indian Affairs, U.S. Department of the Interior.
Amy Lueders,
State Director, New Mexico, Bureau of Land Management, U.S. Department of the Interior.

[FR Doc. 2016-25527 Filed 10-20-16; 8:45 am]

BILLING CODE 4310-FB-P